NATIONAL CREDIT UNION ADMINISTRATION

Notice of Meetings; Sunshine Act

TIME AND DATE: 10:00 a.m., Thursday, December 13, 2001.

PLACE: Board Room, 7th Floor, Room 7047, 1775 Duke Street, Alexandria, VA 22314-3428.

STATUS: Open.

MATTERS TO BE CONSIDERED: 1. Requests from Three (3) Federal Credit Unions to Convert to Community Charters.

2. Community Development Revolving Loan Program for Credit Unions: Notice of Applications for Participation and Interest Rate for Loans.

3. Final Rule: Parts 700, 701, 712, 715, 723, 725, and 790, NCUA's Rules and Regulations, Definitions and Technical Amendments.

4. Proposed Rule: Section 710.19, NCUA's Rules and Regulations, Retirement Benefits for Employees of Federal Credit Unions.

5. Final Rule: Amendment to Section 701.33 NCUA's Rules and Regulations, Definition of Compensation.

6. Proposed Request for Comments on Risk Mitigation of Non-Maturity Shares.

7. National Credit Union Share Insurance Fund (NCUSIF) Operating Level for 2002.

8. NCUA's Annual Performance Plan for 2002.

9. Purchase of Video Conferencing System.

10. Replacement of NCUA's Telephone and Voice Mail System.

11. Amendment to Interpretive Ruling and Policy Statement (IRPS) 99-1.

Recess: 11:15 a.m.

TIME AND DATE: 11:30 a.m., Thursday, December 13, 2001.

PLACE: Board Room, 7th Floor, Room 7047, 1775 Duke Street, Alexandria, VA 22314-3428.

STATUS: Closed.

MATTERS TO BE CONSIDERED: 1. Administrative Actions under Part 704 of NCUA's Rules and Regulations. Closed pursuant to exemption (8).

2. Administrative Action under Section 206 of the Federal Credit Union Act. Closed pursuant to exemption (8).

3. Two (2) Personnel Matters. Closed pursuant to exemptions (2) and (6).

FOR FURTHER INFORMATION CONTACT: Becky Baker, Secretary of the Board, Telephone 703-518-6304.

Becky Baker,
Secretary of the Board.

[FR Doc. 01-30625 Filed 12-6-01; 4:17 pm]

BILLING CODE 7535-01-M